DEPARTMENT OF ENERGY

Federal Energy Regulatory Commission

[Docket No. RP01-241-000]

Mississippi River Transmission Corporation; Notice of Tariff Filing

March 6, 2001.

Take notice that on February 28, 2001, Mississippi River Transmission Corporation (MRT) tendered for filing as part of its FERC Gas Tariff, Third Revised Volume No. 1.

MRT hereby files a true-up of MRT's Gas Supply Realignment Costs (GSRC) for the period of recovery from September 1, 2000 through November 30, 2000.

MRT states that a copy of this filing is being mailed to each of MRT's customers and to the state commissions of Arkansas, Missouri and Illinois.

Any person desiring to be heard or to protest said filing should file a motion to intervene or a protest with the Federal Regulatory Commission, 888 First Street, NE., Washington, DC 20426, in accordance with sections 385.214 or 385.211 of the Commission's Rules and Regulations. All such motions or protests must be filed in accordance with section 154.210 of the Commission's Regulations. Protests will be considered by the Commission in determining the appropriate action to be taken, but will not serve to make protestants parties to the proceedings. Any person wishing to become a party must file a motion to intervene. Copies of this filing are on file with the Commission and are available for public inspection in the Public Reference Room. This filing may be viewed on the web at http://www.ferc.fed.us/online/rims.htm (call 202-208-2222 for assistance). Comments and protests may be filed electronically via the internet in lieu of paper. See, 18 CFR 385.2001(a)(1)(iii) and the instructions on the Commission's web site at

http://www.ferc.fed.us/efi/doorbell.htm.

David P. Boergers,
Secretary.

[FR Doc. 01-5992 Filed 3-9-01; 8:45 am]

BILLING CODE 6717-01-M